DEPARTMENT OF ENERGY

Bonneville Power Administration

Condon Wind Project

AGENCY: Bonneville Power Administration (BPA), Department of Energy (DOE).

ACTION: Notice of availability of Record of Decision (ROD).

SUMMARY: This notice announces the availability of the ROD to enter into power purchase and transmission service agreements to acquire and connect the scheduled output of up to 49.8 megawatts of the Condon Wind Project located in central Oregon. This decision is based on the Condon Wind Project Final Environmental Impact Statement (DOE/EIS-0321, August 2001) and Supplement Analysis (DOE/EIS-0321/SA-01). The Condon Wind Project will be developed by SeaWest WindPower, Inc.

ADDRESS: Copies of the ROD, Environmental Impact Statement, and Supplement Analysis may be obtained by calling BPA's toll-free document request line, 1-800-622-4520; or at our Web site, www.efw.bpa.gov.

FOR FURTHER INFORMATION CONTACT: Sarah T. Branum, Bonneville Power Administration—KEC-4, P.O. Box 3621, Portland, Oregon, 97208-3621; toll-free telephone number 1-800-282-3713; fax number 503-230-5699; or e-mail stbranum@bpa.gov.

Issued in Portland, Oregon, on November 6, 2001.
Stephen J. Wright,
Acting Administrator and Chief Executive Officer.

[FR Doc. 01-28726 Filed 11-15-01; 8:45 am]

BILLING CODE 6450-01-P